DEPARTMENT OF AGRICULTURE

Commodity Credit Corporation

Farm Service Agency; Notice of Availability of the Draft Programmatic Environmental Impact Statement for the Conservation Reserve Program

AGENCY: Commodity Credit Corporation; Farm Service Agency, USDA.

ACTION: Notice of availability of the Draft Programmatic Environmental Impact Statement.

SUMMARY: The Commodity Credit Corporation and the Farm Service Agency announce the availability of the draft Programmatic Environmental Impact Statement (PEIS) for the Conservation Reserve Program (CRP). The draft PEIS assesses the potential environmental impacts of alternatives to be considered in the administration of the CRP. The draft PEIS also provides a means for the public to voice any concern they may have about the program and any ideas for improving it. This Notice of Availability informs the public that the draft PEIS is available and solicits public comment.

DATES: FSA invites comments on the draft PEIS. Comments should be submitted by close of business on October 21, 2002, to ensure consideration. Comments submitted after this date will be considered to the extent possible.

ADDRESSES: Written comments on and requests for copies of the draft PEIS should be directed to CRP PEIS, P.O. Box 6830, Falls Church, VA 22204-6830, CRP@mangi.com or telephone (toll free) 1-877-271-3842. The draft PEIS is available on the FSA Worldwide Web site, in Adobe Acrobat (.pdf) format, at: http://www.fsa.usda.gov/dafp/cepd/epb.

FOR FURTHER INFORMATION CONTACT: Don Steck, USDA/FSA/CEPD/Stop 0513, 1400 Independence Ave., SW., Washington, DC 20250-0513, (202) 690-0224, or e-mail at: don_steck@wdc.usda.gov or CRP@ mangi.com. Persons with disabilities who require alternative means for communication (Braille, large print, audio tape, etc.) should contact the USDA Target Center at (202) 720-2600 (voice and TDD). More detailed information on these programs may also be obtained from the FSA Worldwide Web site at: http://www.fsa.usda.gov/pas/default.asp (general), http://www.fsa.usda.gov/dafp/cepd/default.htm (CRP and CREP).

Signed in Washington DC, on August 29, 2002.
James R. Little,
Administrator, FSA, Executive Vice President, CCC.

[FR Doc. 02-22670 Filed 9-5-02; 8:45 am]

BILLING CODE 3410-05-P